DEPARTMENT OF JUSTICE

Notice of Lodging of Proposed Consent Decree Under the Comprehensive Environmental Response, Compensation, and Liability Act

On April 10, 2015, the Department of Justice lodged a proposed Consent Decree with the United States District Court for the District of Rhode Island in the consolidated lawsuit entitled Emhart Industries, Inc. v. New England Container Co., Inc., Civil Action No. 06-218-S.

The Consent Decree resolves claims alleged by the United States on behalf of the United States Environmental Protection Agency (“EPA”) against New England Container Co., Inc. (“NECC”) pursuant to section 107 and 113 of the Comprehensive Environmental Response, Compensation, and Liability Act of 1980, as amended (“CERCLA”), 42 U.S.C. 9607. The United States' cross claim seeks reimbursement and contribution of response costs incurred and to be incurred for response actions taken and to be taken at or in connection with the release or threatened release of hazardous substances at the Centredale Manor Restoration Project Superfund Site in North Providence, Rhode Island (“Site”).

Under the proposed Consent Decree, NECC, a former operator of the Site, will pay $8.75 million in partial reimbursement of EPA's past response costs. This amount was determined based on an analysis of NECC's ability to pay, and is being funded by proceeds from certain historic insurance policies.

The publication of this notice opens a period for public comment on the proposed Consent Decree. Comments should be addressed to the Assistant Attorney General, Environment and Natural Resources Division, and should refer to Emhart Industries, Inc. v. New England Container Co., Inc., D.J. Ref. No. 90-11-3-07101/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may also be examined and downloaded at this Justice Department Web site: http://www.usdoj.gov/enrd/Consent_Decrees.html. We will provide a paper copy of the proposed Consent Decree upon written request and payment of reproduction costs. Please mail your request and payment to: Consent Decree Library, U.S. DOJ-ENRD, P.O. Box 7611, Washington, DC 20044-7611.

Please enclose a check or money order for $5.75 (25 cents per page reproduction cost) payable to the United States Treasury. For a paper copy without the exhibits and signature pages, the cost is $4.00.

Maureen Katz,
Assistant Section Chief, Environmental Enforcement Section, Environment and Natural Resources Division.

[FR Doc. 2015-08844 Filed 4-16-15; 8:45 am]

BILLING CODE 4410-15-P